DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Atlantic Highly Migratory Species Voluntary Release Reports.

OMB Control Number: 0648-0628.

Form Number(s): NA.

Type of Request: Regular submission (extension of a current information collection).

Number of Respondents: 13.

Average Hours per Response: 5 minutes.

Burden Hours: 1.

Needs and Uses: This request is for an extension of a currently approved information collection.

Under the Magnuson-Stevens Fishery Conservation and Management Act (MSFMCA, 16 U.S.C. 1801 et seq.) the National Marine Fisheries Service (NMFS) is to ensure that conservation and management measures promote, to the extent practicable, implementation of scientific research programs that include the tagging and releasing of Atlantic highly migratory species (HMS). The currently approved information collection allows the public to submit volunteered geographic and biological information relating to HMS releases in order to populate an interactive Web site mapping tool. This Web page attracts visitors who are interested in Atlantic HMS and contains information and links to promote HMS tagging programs that the general public can support or become involved with. All submissions are voluntary. Information is used to raise awareness for releasing Atlantic HMS and HMS tagging programs, and is not used as representative results.

Affected Public: Individuals or households; business or other for-profit organizations.

Frequency: On occasion.

Respondent's Obligation: Voluntary.

This information collection request may be viewed at reginfo.gov. Follow the instructions to view Department of Commerce collections currently under review by OMB.

Written comments and recommendations for the proposed information collection should be sent within 30 days of publication of this notice to OIRA_Submission@omb.eop.gov or fax to (202) 395-5806.

Dated: April 8, 2014
Gwellnar Banks,
Management Analyst, Office of the Chief Information Officer.

[FR Doc. 2014-08224 Filed 4-11-14; 8:45 am]

BILLING CODE 3510-JE-P